DEPARTMENT OF HEALTH AND HUMAN SERVICES

Centers for Disease Control and Prevention

Board of Scientific Counselors, Office of Public Health Preparedness and Response (BSC, OPHPR)

In accordance with section 10(a)(2) of the Federal Advisory Committee Act (Pub. L. 92-463), the Centers for Disease Control and Prevention (CDC), announces the following meeting of the aforementioned committee:

Time and Date: 1:30 p.m.-4 p.m., January 3, 2012.

Place: This meeting is accessible by Web Conference. Please contact CDC (see Contact for More Information) to obtain further instructions on how to participate by phone and online.

Status: Open to the public limited only by web conference. Participation by web conference is limited by the number of ports available.

Purpose: This Board is charged with providing advice and guidance to the Secretary, Department of Health and Human Services (HHS), the Assistant Secretary for Health (ASH), the Director, Centers for Disease Control and Prevention (CDC), and the Director, Office of Public Health Preparedness and Response (OPHPR), concerning strategies and goals for the programs and research within OPHPR, monitoring the overall strategic direction and focus of the OPHPR Divisions and Offices, and administration and oversight of peer review of OPHPR scientific programs. For additional information about the Board, please visit: http://www.cdc.gov/phpr/science/counselors.htm.

Matters To Be Discussed: The agenda items for this meeting include: a briefing to the Board on the findings from the mid-project review of OPHPR's Preparedness and Emergency Response Research Centers followed by a vote on final recommendations; and an update on OPHPR strategic plan.

Contact for More Information: Sarah Henderson, OPHPR, CDC, 1600 Clifton Road, NE., Mailstop D-44, Atlanta, Georgia 30333; Telephone: (770) 488-8341; Facsimile: (404) 639-7977; E-mail: OPHPR.BSC.Questions@cdc.gov.

The Director, Management Analysis and Services Office, has been delegated the authority to sign Federal Register notices pertaining to announcements of meetings and other committee management activities for both the Centers for Disease Control and Prevention and the Agency for Toxic Substances and Disease Registry.

Dated: November 28, 2011.
Elaine L. Baker,
Director, Management Analysis and Services Office, Centers for Disease Control and Prevention.

[FR Doc. 2011-31109 Filed 12-6-11; 8:45 am]

BILLING CODE 4163-18-P